DEPARTMENT OF TRANSPORTATION

Federal Motor Carrier Safety Administration

Qualification of Drivers; Exemption Applications; Diabetes

AGENCY: Federal Motor Carrier Safety Administration (FMCSA), DOT.

ACTION: Notice of denials.

SUMMARY: The FMCSA announces its denial of 8 applications from individuals who requested an exemption from the Federal diabetes standard applicable to interstate truck drivers and the reasons for the denials. The FMCSA has statutory authority to exempt individuals from the diabetes standard if the exemptions granted will not compromise safety. The agency has concluded that granting these exemptions would not provide a level of safety that will equal or exceed the level of safety maintained without the exemptions for these commercial motor vehicle (CMV) drivers.

FOR FURTHER INFORMATION CONTACT: Ms. Maggie Gunnels, Office of Bus and Truck Standards and Operations, (MC-PSD), (202) 366-4001, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal diabetes standard for commercial drivers with insulin-treated diabetes mellitus for a renewable 2-year period if it finds such an exemption would likely achieve a level of safety that is equivalent to, or greater than, the level that would be achieved absent such an exemption (49 CFR 381.305(a)).

Accordingly, FMCSA evaluated 8 individual exemption requests on their merits and made a determination that these applicants do not satisfy the criteria established to demonstrate that granting an exemption is likely to achieve an equal or greater level of safety than exists without the exemption. Each applicant has, prior to this notice, received a letter of final disposition on his/her individual exemption request. Those decision letters fully outline the basis for the denial and constitute final agency action. The list published today summarizes the agency's recent denials as required under 49 U.S.C. 31315(b)(4) by periodically publishing names and reasons for denials.

Four applicants, Brian J. Carew, Dale R. Gansz, Thomas J. Martin, and Uve Witsch, lacked sufficient recent driving experience under normal highway operating conditions over the previous three years that would serve as an adequate predictor of future safe performance.

Two applicants, James F. Gaab and Armand O. Rondeau, do not have 3 years of experience driving a CMV on public highways with insulin-treated diabetes mellitus.

One applicant from Canada, Norman Peltzer, applied for an exemption. The medical reciprocity agreement between the United States (U.S.) and Canada prohibits U.S. and Canadian CMV drivers who are insulin-using diabetics from trans-border operations. In addition, an exemption from the diabetes standard is valid for operations only within the U.S. It does not exempt the driver from the physical qualification standards of any bordering jurisdiction.

One applicant, Joseph R. Suits, did not hold a license that allowed for operation of a vehicle with a gross combination weight rating over 26,001 lbs. for all or part of the 3-year period.

Issued on: December 28, 2004.
Pamela M. Pelcovits,
Director, Policy, Plans, and Program Development.

[FR Doc. 05-296 Filed 1-6-05; 8:45 am]

BILLING CODE 4910-EX-P